DEPARTMENT OF LABOR

Employment and Training Administration

[TA-W-65,772]

Snorkel International, Inc., Elwood, KS; Notice of Termination of Investigation

In accordance with Section 221 of the Trade Act of 1974, as amended, an investigation was initiated on April 8, 2009, in response to a petition filed on behalf of workers of Snorkel International, Inc., Elwood, Kansas.

The petitioners have requested that the petition be withdrawn. Consequently, the investigation has been terminated.

Signed in Washington, DC, this 5th day of May, 2009.
Richard Church,
Certifying Officer, Division of Trade Adjustment Assistance.

[FR Doc. E9-13450 Filed 6-8-09; 8:45 am]

BILLING CODE 4510-FN-P